DEPARTMENT OF COMMERCE

National Telecommunications and Information Administration

[Docket No. 100910448-0572-02]

RIN 0660-XA19

Copyright Policy, Creativity, and Innovation in the Internet Economy

AGENCY: National Telecommunications and Information Administration, U.S. Department of Commerce.

ACTION: Notice of Inquiry; reopening of comment period.

SUMMARY: The Department of Commerce's Internet Policy Task Force announces that the closing deadline for submission of comments responsive to the October 5, 2010 Notice of Inquiry on copyright policy and innovation in the Internet economy has been reopened and will extend until 5 p.m. Eastern Standard Time (EST) on December 10, 2010.

DATES: Comments are due by 5 p.m. EST on December 10, 2010.

ADDRESSES: Interested parties are encouraged to file comments electronically by e-mail to copyright-noi-2010@ntia.doc.gov. Submissions should be in one of the following formats: HTML, ASCII, Word, rtf, or pdf. Paper comments can be sent to: Office of Policy Analysis and Development, NTIA, U.S. Department of Commerce, Room 4725, 1401 Constitution Avenue, NW., Washington, DC 20230. Please note that all material sent via the U.S. Postal Service (including “Overnight” or “Express Mail”) is subject to delivery delays of up to two weeks due to mail security procedures. Paper submissions should also include a CD or DVD in Word, WordPerfect, or pdf format. CDs or DVDs should be labeled with the name and organizational affiliation of the filer, and the name of the word processing program used to create the document. Comments filed in response to this notice will be made available to the public on the Internet Policy Task Force Web page at http://www.ntia.doc.gov/internetpolicytaskforce. For this reason, comments should not include confidential, proprietary, or business sensitive information.

FOR FURTHER INFORMATION CONTACT: For general questions about this Notice of Inquiry, contact: Dennis Amari, Office of Policy Analysis and Development, National Telecommunications and Information Administration, U.S. Department of Commerce, 1401 Constitution Avenue, NW., Room 4725, Washington DC 20230, telephone (202) 482-1880; or Michael Shapiro, Office of External Affairs, United States Patent and Trademark Office, U.S. Department of Commerce, Madison Building, 401 Dulany Street, Alexandria, VA 22314, telephone (571) 272-9300; or send an e-mail to copyright-noi-2010@ntia.doc.gov. Please direct media inquires to NTIA's Office of Public Affairs at (202) 482-7002; or USPTO's Office of Public Affairs at (572) 272-8400.

SUPPLEMENTARY INFORMATION: On April 21, 2010, the Department of Commerce (the “Department”) announced the formation of a Commerce-wide Internet Policy Task Force (“Task Force”) to identify leading public policy and operational issues impacting the U.S. private sector's ability to realize the potential for economic growth and job creation through the Internet.¹ On October 5, 2010, the Task Force issued a Notice of Inquiry on the challenges of protecting copyrighted works online and the relationship between copyright law and innovation in the Internet economy with a closing date for comments of November 19, 2010.² In the interest of affording parties more time to submit comments, the Task Force is reopening the comment period. The Task Force announces that the closing deadline for submissions of comments responsive to the October 5, 2010 Notice of Inquiry is now extended until 5 p.m. Eastern Standard Time (EST) on December 10, 2010. Comments received after the original closing date of November 19, 2010 and before publication of this Notice of Inquiry will be considered timely and given full consideration.

¹ Commerce Secretary Locke Launches Internet Policy Task Force, Department of Commerce Press Release (April 21, 2010), at http://www.commerce.gov/news/press-releases/2010/04/21/commerce-secretary-locke-announces-public-review-privacy-policy-and-i.

² See 75 FR 61419 (October 5, 2010).

Dated: November 19, 2010.
Kathy D. Smith,
Chief Counsel.

[FR Doc. 2010-29686 Filed 11-24-10; 8:45 am]

BILLING CODE 3510-60-P